FEDERAL HOUSING FINANCE AGENCY

[No. 2009-N-10]

Federal Home Loan Bank Collateral for Advances and Interagency Guidance on Nontraditional Mortgage Products

Correction

In Notice document E9-18545 beginning on page 38618 in the issue of August 4, 2009, make the following correction:

On page 38618, the DATES: section should read: “Comments must be received on or before October 5, 2009.”

[FR Doc. Z9-18545 Filed 8-7-09; 8:45 am]

BILLING CODE 1505-01-D